DEPARTMENT OF LABOR

Employment and Training Administration

[TA-W-58,540]

Cytech Hardwood, Inc., Amsterdam, NY; Notice of Affirmative Determination Regarding Application for Reconsideration

By application of February 19, 2006, a company official requested administrative reconsideration of the Department of Labor's Notice of Negative Determination Regarding Eligibility to Apply for Worker Adjustment Assistance, applicable to workers of the subject firm. The Notice of determination was signed on January 24, 2006 and published in the Federal Register on February 10, 2006 (71 FR 7077).

The Department has carefully reviewed the request for reconsideration and previously submitted information, and has determined that the Department will conduct further investigation based on new information provided by the company official.

Conclusion

After careful review of the application, I conclude that the claim is of sufficient weight to justify reconsideration of the Department of Labor's prior decision. The application is, therefore, granted.

Signed at Washington, DC, this 17th day of March 2006.
Elliott S. Kushner,
Certifying Officer, Division of Trade Adjustment Assistance.

[FR Doc. E6-4598 Filed 3-28-06; 8:45 am]

BILLING CODE 4510-30-P